DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Recreational Fishing Expenditure Survey (MRFES).

OMB Control Number: 0648-0693.

Form Number(s): None.

Type of Request: Regular (revision and extension of a currently approved information collection).

Number of Respondents: 83,426.

Average Hours per Response: Durable goods survey, 15 minutes; trip expenditure surveys, 5 to 8 minutes.

Burden Hours: 3,142.

Needs and Uses: This request is for revision and extension of an existing data collection.

The objective of the survey is to collect information on both trip expenditures and annual durable good expenditures made by marine recreational anglers. The survey will be conducted in two parts. One part will ask anglers about the expenses incurred on their most recent marine recreational fishing trip. The other part of the survey will ask anglers about their purchases of durable goods such as fishing gear, boats, vehicles, and second homes. As specified in the Magnuson-Stevenson Fishery Conservation and Management Act of 1996 (and reauthorized in 2007), NMFS is required to enumerate the economic impacts of the policies it implements on fishing participants and coastal communities. The expenditure data collected in this survey will be used to estimate the economic contributions and impacts of marine recreational fishing to each coastal state and nationwide. Slight revisions will be made to the existing trip expenditure questions to clarify certain types of expenditures, and two questions on the trip expenditure instrument will be dropped.

Affected Public: Individuals or households.

Frequency: Every three years.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sarah Brabson,
NOAA PRA Clearance Officer.

[FR Doc. 2017-05693 Filed 3-21-17; 8:45 am]

BILLING CODE 3510-22-P